DEPARTMENT OF JUSTICE

Notice of Lodging of Consent Decree Under the Safe Drinking Water Act

Notice is hereby given that on April 22, 2003, a proposed Consent Decree in United States v. Syd H. Levine, et al., Civil No. 4:97CV-169-M, was lodged with the United States District Court for the Western District of Kentucky.

In this action the United States sought civil penalties and injunctive relief for numerous violations of Section 1423(b) of the Safe Drinking Water Act, 42 U.S.C. 300h-2(b), and its implementing Underground Injection Control regulations for Kentucky, 40 CFR part 144. The alleged violations include [violations of an Administration Order on Consent entered into in] August 1990 by EPA and defendant Doofus Oil, doing business as Syd H. Levine and Associates, as the operator of underground injection wells owned by Hel-leva, Poor Boy, and Levine Development. In settlement of these allegations, the defendants will conduct mechanical integrity tests on their 52 underground injection wells that are the subject of this action under a compliance schedule set forth in the Decree.

The Department of Justice will receive for a period of thirty (30) days from the date of this publication, comments relating to the Consent Decree. Comments should be addressed to the Assistant Attorney General, Environment and Natural Resources Division, P.O. Box 7611, U.S. Department of Justice, Washington, DC 20044-7611, and should refer to United States v. Syd H. Levine, et al., D.J. Ref. 90-5-1-1-4391.

The Consent Decree may be examined at the office of the United States Attorney, 510 W. Broadway, 10th Floor, Louisville, Kentucky, and at U.S. EPA Region 4, Atlanta Federal Center, 61 Forsyth Street, Atlanta, Georgia. During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov,) fax no. (202) 514-0097, phone confirmation number (202) 514-1547. In requesting a copy, please enclose a check in the amount of $10.25 (25 cents per page reproduction cost) payable to the U.S. Treasury.

Ellen M. Mahan,
Assistant Chief, Environmental Enforcement Section, Environment and Natural Resources Division.

[FR Doc. 03-11401 Filed 5-7-03; 8:45 am]

BILLING CODE 4410-15-M